CORPORATION FOR NATIONAL AND COMMUNITY SERVICE

Agency Information Collection Activities; Submission to the Office of Management and Budget for Review and Approval; Comment Request; Childcare Benefit Forms

AGENCY: Corporation for National and Community Service.

ACTION: Notice of information collection; request for comment.

SUMMARY: The Corporation for National and Community Service, operating as AmeriCorps, has submitted a public information collection request (ICR) entitled Childcare Benefit Forms for review and approval in accordance with the Paperwork Reduction Act.

DATES: Written comments must be submitted to the individual and office listed in the ADDRESSES section by April 3, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Courtney Russell, at 202-380-7825 or by email to CRussell@americorps.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on December 17, 2024, at 89 FR 102118. The comment period ended February 18, 2025. No public comments were received from that notice.

Title of Collection: Childcare Benefit Forms.

OMB Control Number: 3045-0142.

Type of Review: Renewal.

Respondents/Affected Public: AmeriCorps members and their childcare providers.

Total Estimated Number of Annual Responses: 450 AmeriCorps members and 590 childcare providers.

Total Estimated Number of Annual Burden Hours: 520.

Abstract: AmeriCorps' childcare benefit forms are submitted by AmeriCorps members seeking childcare assistance and by the childcare providers identified by the members, for the purpose of applying for and receiving payment for the care of members' children during the day while the member is in service. Completion of this information is required to receive a benefit (e.g., receive payment for childcare provider invoices). Eight forms are included in this information collection: (1) provider application; (2) member application; (3) childcare attendance sheet; (4) statement of work activity; (5) member update form; (6) childcare payment authorization; (7) AmeriCorps unlicensed provider affidavit; and (8) program certification of active service. The currently approved information collection is due to expire on March 31, 2025.

Carly Bruder,
Acting Chief Program Officer.

[FR Doc. 2025-03490 Filed 3-3-25; 8:45 am]

BILLING CODE 6050-28-P